DEPARTMENT OF JUSTICE

Office of Juvenile Justice and Delinquency Prevention

[OJP (OJJDP)-1304]

Meeting of the Coalition for Juvenile Justice

AGENCY: Office of Justice Programs, Office of Juvenile Justice and Delinquency Prevention, Justice.

ACTION: Notice of meeting.

SUMMARY: The Office of Juvenile Justice and Delinquency Prevention is announcing the meeting of the Coalition for Juvenile Justice.

DATES: The meeting dates are:

1. Thursday, November 9, 2000, from 9:00 a.m. until 10:00 p.m., ET.

2. Friday, November 10, 2000, from 8:30 a.m. until 6:30 p.m., ET.

3. Saturday, November 11, 2000, from 8:00 a.m. until 6:30 p.m., ET.

4. Sunday, November 12, 2000, from 8:00 a.m. until 1:00 p.m., ET.

ADDRESS: All meetings will be held at the Crowne Plaza Hotel, 700 N. Westshore Boulevard, Tampa, Florida 33609.

FOR FURTHER INFORMATION CONTACT: For information about how to attend this meeting, contact Freida Thomas, Grants Management Specialist, Office of Juvenile Justice and Delinquency Prevention, 810 7th Street, NW., Washington, DC 20531; telephone: 202-307-5924. (This is not a toll-free number.) Questions may also be submitted by fax (202-307-2819) or e-mail (Freida@ojp.usdoj.gov).

SUPPLEMENTARY INFORMATION: The Coalition for Juvenile Justice, established pursuant to section 9 of the Federal Advisory Committee Act, 5 U.S.C. App. 2, is meeting to carry out its advisory functions under section 5651 of the Juvenile Justice and Delinquency Prevention Act of 1974, as amended, 42 U.S.C. 5601 et seq. The purpose of this meeting is to discuss and adopt recommendations from members regarding the committee's responsibility to advise the OJJDP Administrator, the President, and Congress about State perspectives on the operation of OJJDP and Federal legislation pertaining to juvenile justice and delinquency prevention. This meeting will be open to the public.

Dated: October 3, 2000.
John J. Wilson,
Acting Administrator, Office of Juvenile Justice and Delinquency Prevention.

[FR Doc. 00-25872 Filed 10-6-00; 8:45 am]

BILLING CODE 4410-18-P